DEPARTMENT OF THE TREASURY

Internal Revenue Service

Open Meeting of the Taxpayer Advocacy Panel Notices and Correspondence Project Committee; Correction

AGENCY: Internal Revenue Service (IRS), Treasury.

ACTION: Notice of meeting; correction.

SUMMARY: In the Federal Register notice that was originally published on September 11, 2018, (Volume 83, Number 176, Page 46019) the Point of Contact information was changed from Otis Simpson, (202) 317-3332, to Gregory Giles, 240-613-6478. All meeting details remain unchanged.

DATES: The meeting will be held Thursday, October 11, 2018.

FOR FURTHER INFORMATION CONTACT: Gregory Giles at 1-888-912-1227 or 240-613-6478.

SUPPLEMENTARY INFORMATION: Notice is hereby given pursuant to Section 10(a)(2) of the Federal Advisory Committee Act, 5 U.S.C. App. (1988) that a meeting of the Taxpayer Advocacy Panel Notices and Correspondence Project Committee will be held Thursday, October 11, 2018, at 1:00 p.m. Eastern Time via teleconference. The public is invited to make oral comments or submit written statements for consideration. Due to limited conference lines, notification of intent to participate must be made with Gregory Giles. For more information please contact Gregory Giles at 1-888-912-1227 or (240) 613-6478, or write TAP Office, 1111 Constitution Ave. NW, Room 1509, Washington, DC 20224 or contact us at the website: http://www.improveirs.org. The agenda will include various IRS issues.

The agenda will include a discussion on various letters, and other issues related to written communications from the IRS.

Dated: September 19, 2018.
Cedric Jeans,
Acting Director, Taxpayer Advocacy Panel.

[FR Doc. 2018-21002 Filed 9-26-18; 8:45 am]

BILLING CODE 4830-01-P